DEPARTMENT OF TRANSPORTATION

Federal Aviation Administration

Ninety Ninth RTCA SC-159 Navigation Equipment Using the Global Navigation Satellite System (GNSS) Plenary

AGENCY: Federal Aviation Administration (FAA), U.S. Department of Transportation (DOT).

ACTION: Ninety Ninth RTCA SC-159 Navigation Equipment Using the Global Navigation Satellite System (GNSS) Plenary.

SUMMARY: The FAA is issuing this notice to advise the public of a meeting of Ninety Ninth RTCA SC-159 Plenary. SC-159 is a subcommittee to RTCA.

DATES: October 27, 2017. 9:00 a.m.-5:00 p.m.

ADDRESSES: The meeting will be held at: RTCA Headquarters, 1150 18th Street NW., Suite 910, Washington, DC 20036.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Ninety Ninth RTCA SC-159 Plenary. The agenda will include the following:

October 27, 2017 9:00 a.m.-5:00 p.m.

1. Introductory Remarks: DFO, RTCA and Co-Chairs

2. Approval of Summaries of Previous Meetings

a. Ninety-Eighth Meeting held May 11, 2017, RTCA Paper No. 0xx-17/SC159-105x.

3. Final Review and Comment (FRAC) activities

a. DO-235() Update

b. GNSS L1/L5 Antenna MOPS

4. Review Working Group (WG) Progress and Identify Issues for Resolution.

a. GPS/WAAS (WG-2)

b. GPS/GLONASS (WG-2A)

c. GPS/Inertial (WG-2C)

d. GPS/Precision Landing Guidance (WG- 4)

e. GPS/Interference (WG-6)

i. Discussion regarding taking draft DO-292 revision into Final Review and Comment (FRAC)

f. GPS/Antennas (WG-7)

5. Review of EUROCAE Activities and Discussion of Joint Activity with EUROCAE on a Dual-Frequency, Multi-Constellation GNSS Receiver MOPS

6. Update on ICAO/Navigation Systems Panel Dual Frequency/Multi Constellation Concept of Operations (CONOPS)

7. Discussion of Terms of Reference Updates

8. Action Item Review

9. Assignment/Review of Future Work

10. Other Business

11. Date and Place of Next Meeting

12. Adjourn

Attendance is open to the interested public but limited to space availability. With the approval of the chairman, members of the public may present oral statements at the meeting. Persons wishing to present statements or obtain information should contact the person listed in the “FOR FURTHER INFORMATION CONTACT” section. Members of the public may present a written statement to the committee at any time.

Issued in Washington, DC on October 4, 2017.
Mohannad Dawoud,
Management & Program Analyst, Partnership Contracts Branch, ANG-A17, NextGen, Procurement Services Division, Federal Aviation Administration.

[FR Doc. 2017-21717 Filed 10-6-17; 8:45 am]

BILLING CODE 4910-13-P